DEPARTMENT OF HEALTH AND HUMAN SERVICES

45 CFR Part 75

RIN 0991-ZA46

Federal Awarding Agency Regulatory Implementation of Office of Management and Budget's Uniform Administrative Requirements, Cost Principles, and Audit Requirements for Federal Awards; Correction and Technical Amendments

AGENCY: Department of Health and Human Services.

ACTION: Interim final rule; correction and technical amendments.

SUMMARY: The Department of Health and Human Services published a document containing technical amendments in the Federal Register on January 20, 2016, revising the Uniform Administrative Requirements, Cost Principles and Audit Requirements for HHS Awards. That document inadvertently failed to update the following: A provision in Appendix II; an improper citation; a recent OMB change; and a grammatical error. This document makes correcting amendments to correct these sections.

DATES: Effective on April 4, 2016.

FOR FURTHER INFORMATION CONTACT: Audrey E. Clarke, Ph.D., Division of Grants, Office of Grants and Acquisition Policy and Accountability, Office of the Assistant Secretary for Financial Resources, U.S. Department of Health and Human Services, email: Audrey.Clarke@hhs.gov.

SUPPLEMENTARY INFORMATION: HHS is correcting its regulations in line with FR Doc. 2014-28697, published on December 19, 2014 (79 FR 75871), entitled “Federal Awarding Agency Regulatory Implementation of Office of Management and Budget's Uniform Administrative Requirements, Cost Principles, and Audit Requirements for Federal Awards”, the “Guidance for Reporting and Use of Information Concerning Recipient Integrity and Performance” to 2 CFR part 200, published on July 22, 2015 (80 FR 43301), and “Universal Identifier and System of Award Management; Corrections”, published on September 10, 2015 (80 FR 54407), made by the Office of Management and Budget (OMB). HHS adopts the correcting amendments made by OMB. HHS is also making amendments to address citation or grammatical inconsistencies, to amend incomplete statements in the regulation, and to update existing HHS regulations to incorporate 45 CFR part 75. The correcting amendments will go into effect at the time of publication.

This is the second set of corrections. The first set of corrections was published in the Federal Register on January 20, 2016 (81 FR 3004). This document augments the corrections which were published in the Federal Register on January 20, 2016 (81 FR 3004). This document includes a corresponding change made by OMB to 2 CFR 200 on November 9, 2015 (80 FR 69111) that was omitted from the first set of corrections. This document also removes instruction 197c on page 3018 in the Federal Register on January 20, 2016 (81 FR 3004), which as published attempted to amend the wrong appendix in 45 CFR part 75. Because that instruction cited the wrong appendix, that amendment could not be incorporated into the CFR.

Correction

In the Federal Register issue of January 20, 2016 (81 FR 3004), make the following correction:

On page 3018, in the third column, remove amendatory instruction 197c.

List of Subjects in 45 CFR Part 75

Accounting, Auditing, Administrative practice and procedure, Colleges and universities, Cost principles, Grant programs, Grant programs-health, Grants administration, Hospitals, Indians, Nonprofit organizations, Reporting and recordkeeping requirements, and State and local governments.

Accordingly, HHS makes the following technical amendments to 45 CFR part 75:

PART 75—UNIFORM ADMINISTRATIVE REQUIREMENTS, COST PRINCIPLES, AND AUDIT REQUIREMENTS FOR HHS AWARDS

1. The authority citation for part 75 continues to read as follows:

Authority: 5 U.S.C. 301.

§ 75.2 [Amended]

2. In § 75.2:

a. In the definition of “Federal Audit Clearinghouse (FAC)”, remove “(FAC)” in the second and third sentences and add “FAC” in its place; and

b. In the introductory text of the definition of “Federal financial assistance”, add the word “means” before the colon.

§ 75.205 [Amended]

3. Amend § 75.205 paragraph (a)(2) by removing “publicly available information in” and adding, in its place “non-public segment of”.

Appendix II to Part 75—[Amended]

4. Amend Appendix II to Part 75 Section C by adding ” “Equal Employment Opportunity (30 FR 12319, 12935, 3 CFR 1964-1965 Comp., p. 339)” after “Executive Order 11246,”; and adding “amending Executive Order 11246 Relating to Equal Employment Opportunity,” after “Executive Order 11375”:

Dated: March 24, 2016.
Ellen Murray,
Assistant Secretary for Financial Resources, Department of Health and Human Services.

[FR Doc. 2016-07401 Filed 4-1-16; 8:45 am]

BILLING CODE 4150-24-P